NATIONAL AERONAUTICS AND SPACE ADMINISTRATION

[Notice 00-136]

Notice of Prospective Patent License

AGENCY: National Aeronautics and Space Administration.

ACTION: Notice of prospective patent license.

SUMMARY: NASA hereby gives notice that Cullimore & Ring Technologies, Inc., of Littleton, CO, has applied for a co-exclusive license to practice the invention described and claimed in NASA Case Number MFS 31303-1, entitled “Generalized Fluid System Simulation Program (GFSSP),” which is assigned to the United States of America as represented by the Administrator of the National Aeronautics and Space Administration. Written objections to the prospective grant of a license should be sent to: Mr. James McGroary, Patent Counsel/LS01, Marshall Space Flight Center, Huntsville, AL 35812.

DATES: Responses to this notice must be received by January 16, 2001.

FOR FURTHER INFORMATION CONTACT: Mr. Sammy Nabors, Marshall Space Flight Center, Technology Transfer Department/CD30, Huntsville, AL 35812; Tel. (256) 544-5226.

Dated: November 6, 2000.
Edward A. Frankle,
General Counsel.

[FR Doc. 00-29015 Filed 11-13-00; 8:45 am]

BILLING CODE 7510-01-U